NATIONAL COUNCIL ON DISABILITY

Sunshine Act Meetings

Dates and Times: May 13, 2010, 9 a.m.-4:45 p.m.

May 14, 2010, 8:30 a.m.-10:30 a.m.

Place: Key Bridge Marriott, 1401 Lee Highway, Arlington, VA.

Status: Parts of this meeting will be open to the public. The rest of the meeting will be closed to the public.

Matters to be Considered: National Summit on Disability Policy 2010.

Portions Open to the Public: Thursday, May 13, 2010, 9 a.m.-4:45 p.m.

Matters to be Considered: Closed Executive Session.

Portions Closed to the Public: Friday, May 14, 2010, 8:30 a.m.-10:30 a.m.

Contact Person for More Information: Mark Quigley, Director of Communications, NCD, 1331 F Street, NW., Suite 850, Washington, DC 20004; 202-272-2004, 202-272-2074 (TTY).

Dated: May 4, 2010.
Joan M. Durocher,
Executive Director.

[FR Doc. 2010-11392 Filed 5-10-10; 11:15 am]

BILLING CODE 6820-MA-P